DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons whose property and interests in property have been unblocked and who have been removed from OFAC's Specially Designated Nationals and Blocked Persons List (SDN List).

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Compliance, tel.: 202-622-2490.

SUPPLEMENTARY INFORMATION:

Electronic Availability

The SDN List and additional information concerning OFAC sanctions programs are available on OFAC's website (https://www.treasury.gov/ofac).

Notice of OFAC Actions

On December 20, 2023, OFAC removed the following persons from the SDN List and determined that the property and interests in property subject to U.S. jurisdiction of the following persons are unblocked.

Individuals

1. ACOSTA URUETA, Yaneth (a.k.a. ACOSTA URUETA, Janeth; a.k.a. ACOSTA URUETA, Yaneth del Socorro), c/o HODWALKER Y LEAL Y CIA. S.C.A., Barranquilla, Colombia; c/o MARTIN HODWALKER M. & CIA. S. EN C., Barranquilla, Colombia; DOB 10 Nov 1965; POB Colombia; nationality Colombia; citizen Colombia; Cedula No. 57411214 (Colombia) (individual) [SDNT].

2. ARAMBULA GARCIA, Luz del Rocio (a.k.a. ARAMBULA DE FLORES, Luz del Rocio), C. Las Palmas No. 2700 Int. 14, Colonia Atlas Colomos, Zapopan, Jalisco, Mexico; Avenida Hidalgo 1890, Colonia Ladron de Guevara, Guadalajara, Jalisco, Mexico; DOB 06 Jan 1949; alt. DOB 05 Jan 1949; POB Jalisco, Mexico; nationality Mexico; citizen Mexico; Passport 98140030684 (Mexico); R.F.C. AAGL-490105 (Mexico); alt. R.F.C. AAGL-490105-9F9 (Mexico); C.U.R.P. AAGL490106MJCRRZ00 (Mexico); alt. C.U.R.P. AAGL490106HJCRRZ00 (Mexico) (individual) [SDNT].

3. BODDEN GALE, Elvert Dowie (a.k.a. “TIO BODDEN”), Roatan, Honduras; DOB 24 Apr 1956; POB Honduras; Passport A046090 (Honduras) (individual) [SDNT].

4. CADENAS VIRAMONTES, Porfirio Miguel, Calle Nelson 421-B, Guadalajara, Jalisco, Mexico; Calle Justo Sierra 1963, Colonia Ladron de Guevara, Guadalajara, Jalisco, Mexico; Calle Mar del Sur No 2075 Int. 1, Colonia Fraccionamiento Country Club, Guadalajara, Jalisco, Mexico; c/o MC OVERSEAS TRADING COMPANY S.A. DE C.V., Guadalajara, Mexico; c/o OVERSEAS TRADING COMPANY S.A., Guatemala City, Guatemala; c/o INMOBILIUM INVESTMENT CORP., Panama City, Panama; DOB 12 Jun 1959; POB Guadalajara, Jalisco, Mexico; Passport 97140096573 (Mexico); R.F.C. CAVP-590612-AD1 (Mexico); NIT # 2665307-9 (Guatemala); C.U.R.P. CAUP590612HJCDRR09 (Mexico) (individual) [SDNT].

5. CAICEDO ROJAS, Jorge Ernesto, Calle 82 No 11-37 Ofc. 504, Bogota, Colombia; DOB 21 Oct 1955; POB Bogota, Colombia; Cedula No. 3227987 (Colombia) (individual) [SDNT] (Linked To: HOTEL LA CASCADA S.A.).

6. CALVO LOMBANA, Gabriel Andres, c/o ORIMAR LTDA., Bogota, Colombia; c/o AQUAMARINA ISLAND INTERNATIONAL CORPORATION, Panama City, Panama; c/o FISHING ENTERPRISE HOLDING INC., Panama City, Panama; DOB 20 Aug 1935; POB Bogota, Colombia; Cedula No. 2859105 (Colombia) (individual) [SDNT].

7. CASTELLANOS SANCHEZ, Federico Ernesto, Calle Tauro No. 4090, Colonia Juan Manuel Vallarte, Zapopan, Jalisco, Mexico; c/o MC OVERSEAS TRADING COMPANY S.A. DE C.V., Guadalajara, Mexico; DOB 11 Jan 1947; POB Tototlan, Jalisco, Mexico (individual) [SDNT].

8. CASTRILLON VASCO, Jhon Jairo; DOB 30 Mar 1960; POB Medellin, Colombia; Cedula No. 71603587 (Colombia) (individual) [SDNT] (Linked To: HOTEL LA CASCADA S.A.; Linked To: INVERSIONES Y REPRESENTACIONES S.A.).

9. CASTRO GARZON, Victor Hugo (a.k.a. “CABEZON”), Guadalajara, Jalisco, Mexico; DOB 10 May 1965; POB Barranquilla, Colombia; Cedula No. 72137257 (Colombia) (individual) [SDNT].

10. CASTRO GARZON, Ricardo (a.k.a. LINEROS GARZON, Rodolfo; a.k.a. “CAYO”), c/o CASTRO CURE Y CIA. S.C.S., Barranquilla, Colombia; c/o CURE SABAGH Y CIA. S.C.S., Barranquilla, Colombia; c/o FUDIA LTDA., Barranquilla, Colombia; c/o CABLES NACIONALES S.A., Barranquilla, Colombia; c/o INVERSIONES AGROPECUARIA ARIZONA LTDA., Barranquilla, Colombia; DOB 13 Dec 1960; POB Barranquilla, Colombia; Cedula No. 8715520 (Colombia) (individual) [SDNT].

11. CASTRO PAEZ, Gerardo, c/o CABLES NACIONALES CANAL S.A., Barranquilla, Colombia; c/o ORIMAR LTDA., Bogota, Colombia; DOB 16 Mar 1974; POB Barranquilla, Colombia; Cedula No. 72196638 (Colombia) (individual) [SDNT].

12. CHOW RIOS, Harding Elvis; DOB 02 Apr 1962; POB San Andres, Colombia; Cedula No. 15243752 (Colombia) (individual) [SDNT].

13. CURE SABAGH, Diana Maria, c/o CASTRO CURE Y CIA. S.C.S., Barranquilla, Colombia; c/o CURE SABAGH Y CIA. S.C.S., Barranquilla, Colombia; c/o FUDIA LTDA., Barranquilla, Colombia; c/o CABLES NACIONALES CANAL S.A., Barranquilla, Colombia; DOB 24 Oct 1967; POB Barranquilla, Colombia; Cedula No. 22443685 (Colombia) (individual) [SDNT].

14. DE MARTINI TAMAYO, Sergio Rene (a.k.a. “CANOSO”); DOB 14 Sep 1962; POB Medellin, Colombia; Cedula No. 71622812 (Colombia) (individual) [SDNT].

15. FERNANDEZ CASTRO, Fernando Alberto (a.k.a. “FERCHO”), c/o GIMNASIO BODY AND HEALTH, Barranquilla, Colombia; DOB 12 May 1966; POB Colombia; Cedula No. 72137518 (Colombia) (individual) [SDNT].

16. FLORES SALINAS, Mario Antonio, C. Las Palmas No. 2700 Int. 14, Colonia Atlas Colomos, Zapopan, Jalisco, Mexico; Paseo Lomas del Bosque No. 2700 Int. 14, Colonia Lomas del Bosque, Guadalajara, Jalisco, Mexico; Avenida Hidalgo 1890, Colonia Ladron de Guevara, Guadalajara, Jalisco, Mexico; Tarascos No. 3469-114, Fraccionamiento Monraz, Guadalajara, Jalisco, Mexico; DOB 16 Mar 1937; alt. DOB 16 Mar 1940; alt. DOB 06 Mar 1940; POB Zacatecas, Mexico; nationality Mexico; citizen Mexico; Passport 98140065448 (Mexico); R.F.C. FOSM-370316-K24 (Mexico); alt. R.F.C. FOSM-400316-K27 (Mexico); alt. R.F.C. FOSM-370316-K12 (Mexico); alt. R.F.C. FOSM-400316 (Mexico); C.U.R.P. FOSM370316HZSLLR06 (Mexico) (individual) [SDNT].

17. GARCIA BUITRAGO, Miyer Alberto (a.k.a. “CHIQUI”); DOB 13 Jul 1970; POB Manzanares, Caldas, Colombia; Cedula No. 10287969 (Colombia); Passport AH132212 (Colombia) (individual) [SDNT].

18. GARCIA RODRIGUEZ, Martha, c/o TRANSPORTES MICHAEL LTDA., Barranquilla, Colombia; c/o COOPERATIVA DE SERVICIO DE TRANSPORTE DE CARGA DE COLOMBIA LTDA., Barranquilla, Colombia; c/o CENTRO DE BELLEZA SHARY VERGARA, Barranquilla, Colombia; POB Colombia; Cedula No. 32761805 (Colombia) (individual) [SDNT].

19. HODWALKER MARTINEZ, Martin David (a.k.a. “TILO”); DOB 26 Dec 1968; POB Colombia; Cedula No. 8534760 (Colombia); Passport AF465508 Colombia (individual) [SDNT] (Linked To: YAMAHA VERANILLO DISTRIBUIDORES; Linked To: VERANILLO DIVE CENTER LTDA.; Linked To: MARTIN HODWALKER M. & CIA. S. EN C.; Linked To: DESARROLLO GEMMA CORPORATION; Linked To: HODWALKER Y LEAL Y CIA. S.C.A.).

20. HOOKER TAYLOR, Javier Arnulfo (a.k.a. HOOKER POMARE, Javier), c/o COOPERATIVA DE SERVICIO DE TRANSPORTE DE CARGA DE COLOMBIA LTDA., Barranquilla, Colombia; c/o ROCK FISH IMPORT EXPORT E.U., San Andres, Colombia; DOB 19 Feb 1971; POB San Andres, Colombia; Cedula No. 18001893 (Colombia) (individual) [SDNT].

21. HYDE, Clive Norman (a.k.a. HYDE SR., Clive Norman; a.k.a. “MR. HYDE”); DOB 08 Apr 1956; POB Belize (individual) [SDNT].

22. LEAL LOPEZ, Janey Farides, c/o MARTIN HODWALKER M. Y CIA. S. EN C., Barranquilla, Colombia; c/o VERANILLO DIVE CENTER LTDA., Barranquilla, Colombia; c/o HODWALKER Y LEAL Y CIA. S.C.A., Barranquilla, Colombia; DOB 06 Nov 1972; POB Colombia; Cedula No. 32779104 (Colombia); Passport AF665724 (Colombia) (individual) [SDNT].

23. LOPEZ RODRIGUEZ, Jorge Octavio, c/o CIMIENTOS LA TORRE S.A. DE C.V., Guadalajara, Jalisco, Mexico; c/o CUMBRES SOLUCIONES INMOBILIARIAS S.A. DE C.V., Zapopan, Jalisco, Mexico; Calle Aurora y Andres, Benito Juarez, Quintana Roo, Mexico; Calle Boyero No. 3500, Torre 4, Dpto. 2, Fraccionamiento La Calma, Zapopan, Jalisco, Mexico; DOB 01 Apr 1976; alt. DOB 01 Jan 1976; POB Guadalajara, Jalisco, Mexico; nationality Mexico; citizen Mexico; Passport 98140145654 (Mexico); alt. Passport 01140405557 (Mexico); C.U.R.P. LORJ760401HJCPDR08 (Mexico) (individual) [SDNT].

24. MALDONADO ESCOBAR, Fernando; DOB 16 May 1961; POB Bogota, Colombia; Cedula No. 19445721 (Colombia); Passport AH330349 (Colombia) (individual) [SDNT] (Linked To: AUDITORES ESPECIALIZADOS LTDA.; Linked To: AQUAMARINA ISLAND INTERNATIONAL CORPORATION).

25. MAR SEM, Maria Gloria, c/o MC OVERSEAS TRADING COMPANY S.A. DE C.V., Guadalajara, Jalisco, Mexico; DOB 19 Aug 1944; POB Mexico; Passport 97140093454 (Mexico) (individual) [SDNT].

26. MARKS, Martin Gregory (a.k.a. “GORDON, Howard A.”); DOB 30 Oct 1958; POB Jamaica; Passport 217720 (Jamaica) (individual) [SDNT].

27. MOLINA MOLINA, Jesus Dagoberto, c/o TRANSPORTES MICHAEL LTDA., Barranquilla, Colombia; c/o COOPERATIVA DE SERVICIO DE TRANSPORTE DE CARGA MULTIMODAL, Barranquilla, Colombia; POB Colombia; Cedula No. 8233532 (Colombia) (individual) [SDNT].

28. OCHOA VASCO, Fabio Enrique (a.k.a. GONZALEZ ZAPATA, Antonio; a.k.a. MARTINEZ PEREZ, Juan Carlos; a.k.a. OCHOA VASCO, Carlos Mario; a.k.a. VEGA TOBON, Carlos Mario; a.k.a. “CARLOS MARIO”; a.k.a. “KIKO”; a.k.a. “KIKO EL CHIQUITO”), Medellin, Antioquia, Colombia; Av Miguel Angel 18, Real Vallarta, Zapopan, Jalisco 44020, Mexico; Av Mexico 2867-17, Col Vallarta, Norte, Guadalajara, Jalisco 44690, Mexico; DOB 20 Nov 1960; alt. DOB 20 Nov 1963; POB Medellin, Colombia; Cedula No. 79281039 (Colombia); alt. Cedula No. 15508422 (Colombia); Passport AE063894 (Colombia) (individual) [SDNT].

29. PALACIO ADARVE, John Ricardo; DOB 11 Mar 1969; POB Itagui, Antioquia, Colombia; Cedula No. 70697538 (Colombia) (individual) [SDNT].

30. RINCONES MENDOZA, Henry Juvenal; DOB 25 Sep 1976; POB Colombia; Cedula No. 79863543 (Colombia) (individual) [SDNT].

31. TRUJILLO MOLINA, Maria Helena (a.k.a. TRUJILLO MOLINA, Maria Elena), c/o HOTEL LA CASCADA S.A., Girardot, Colombia; c/o INVERSIONES Y REPRESENTACIONES S.A., Medellin, Colombia; POB Colombia; Cedula No. 42875026 (Colombia) (individual) [SDNT].

32. VALENCIA MARIN, Libardo Elias; DOB 23 Mar 1946; POB Colombia; Cedula No. 8225623 (Colombia) (individual) [SDNT].

33. VARELA SERNA, Carlos Heneris (a.k.a. “COLITAS”), c/o TRANSPORTES MICHAEL LTDA., Barranquilla, Colombia; c/o COOPERATIVA DE SERVICIO DE TRANSPORTE DE CARGA DE COLOMBIA LTDA., Barranquilla, Colombia; c/o CENTRO DE BELLEZA SHARY VERGARA, Barranquilla, Colombia; DOB 11 Jan 1956; POB Cali, Colombia; Cedula No. 16632290 (Colombia) (individual) [SDNT].

34. WORRELL, Gareth Bruce (a.k.a. WORRELL MURRAY, Gareth Bruce; a.k.a. WORRELL MURRAY, Garrett; a.k.a. “GARETH MOREY”); DOB 19 Jun 1971; alt. DOB 19 Jan 1971; POB Belize; Passport 0159817 (Belize) (individual) [SDNT].

35. YEPES VELEZ, Silvio (a.k.a. YEPEZ VELEZ, Silvio), Carrera 30 No. 77-26, Bogota, Colombia; c/o HOTEL LA CASCADA S.A., Girardot, Colombia; DOB 09 Nov 1948; POB Manizales, Caldas, Colombia; Cedula No. 19065009 (Colombia); NIT # 19065009-4 (Colombia) (individual) [SDNT].

Entities

1. AQUAMARINA ISLAND INTERNATIONAL CORPORATION, Avenida Cuba Calle 38, Edificio Los Cristales Piso 3, Panama City, Panama; Calle 93 No. 14-20 Ofc. 611, Bogota, Colombia; Avenida del Pastelillo 24-46, Edificio Fadia—Manga, Cartagena, Colombia; RUC # 2120851397079 (Panama) [SDNT].

2. AUDITORES ESPECIALIZADOS LTDA., Calle 93 No. 14-20 Ofc. 611, Bogota, Colombia; NIT # 830041980-1 (Colombia) [SDNT].

3. CABLES NACIONALES S.A. (a.k.a. CANAL S.A.), Calle 111 No. 34-139, Barranquilla, Colombia; NIT # 802005017-7 (Colombia) [SDNT].

4. CASTRO CURE Y CIA. S. EN C., Calle 111 No. 34-139, Barranquilla, Colombia; NIT # 802001885-5 (Colombia) [SDNT].

5. CENTRO DE BELLEZA SHARY VERGARA, Carrera 54 No. 72-80 Local 25, Barranquilla, Colombia [SDNT].

6. CIMIENTOS LA TORRE S.A. DE C.V. (f.k.a. ACTIVOS PARA EL DESARROLLO ISLA BLANCA S.A. DE C.V.), Calle San Uriel 690, Interior 10, Piso 4, Colonia Chapalita, Guadalajara, Jalisco, Mexico [SDNT].

7. COMERCIALIZADORA MOR GAVIRIA S.A. (a.k.a. ALFOMBRAS DURATEX DE COLOMBIA; a.k.a. “DURATEX ECUADOR”), Avenida Pedro Vicente Maldonado N229 y Rivas, Edificio Centro Comercial El Recreo, Local 24F, Pichincha, Quito, Ecuador; RUC # 1791813359001 (Ecuador) [SDNT].

8. COMERCIALIZADORA MORDUR S.A., Avenida Pedro Vicente Maldonado 14-205, Edificio Centro Comercial El Recreo, Local 22F, Pichincha, Quito, Ecuador; RUC # 1791315820001 (Ecuador) [SDNT].

9. COOPERATIVA DE SERVICIO DE TRANSPORTE DE CARGA DE COLOMBIA LTDA. (a.k.a. COOPERATIVA DE SERVICIO DE TRANSPORTE DE CARGA MULTIMODAL DE COLOMIBA LTDA.; a.k.a. COOTRANSMULTI H.H. LTDA.), Calle 30 No. 10-50, Barranquilla, Colombia; Calle 35 No. 36-68, Barranquilla, Colombia; NIT # 802019665-0 (Colombia) [SDNT].

10. CORPORACION DE CONSULTORIA, ASESORIA, PRESTACION DE SERVICIOS Y DOTACION DE ELEMENTOS Y SUMINISTROS CIA. LIMITADA (a.k.a. CORDES CIA. LIMITADA; f.k.a. CORPORACION DE CONSULTORIA ASESORIA Y DOTACION DE ELEMENTOS Y SUMINISTROS CIA. LIMITADA), Calle 71C No. 4N-19, Cali, Colombia; NIT # 830502730-4 (Colombia) [SDNT].

11. CUMBRES SOLUCIONES INMOBILIARIAS S.A. DE C.V., Avenida Miguel Angel 18, Colonia Real Vallarta, Zapopan, Jalisco, Mexico; Calle del Menhir Sur 661-2, Colonia Altamira, Zapopan, Jalisco, Mexico [SDNT].

12. CURE SABAGH Y CIA. S.C.S., Calle 32 No. 43A-89, Barranquilla, Colombia; NIT # 802000463-6 (Colombia) [SDNT].

13. DESARROLLO GEMMA CORPORATION, Calle 52 Bella Vista, Chalet # 17, Panama City, Panama; RUC # 25544701403775 (Panama) [SDNT].

14. FISHING ENTERPRISE HOLDING, INC., Avenida Samuel Lewis, Edificio Comosa, Piso 16, Panama City, Panama; RUC # 2120741397076 (Panama) [SDNT].

15. FUDIA LTDA., Calle 111 No. 36B-17, Barranquilla, Colombia; NIT # 800230555-4 (Colombia) [SDNT].

16. GERENCIA DE PROYECTOS Y SOLUCIONES LTDA., Avenida 13 No. 100-12 Ofc. 302, Bogota, Colombia; NIT # 800231600-2 (Colombia) [SDNT].

17. GIMNASIO BODY AND HEALTH, Calle 80 No. 75-210, Barranquilla, Colombia [SDNT].

18. HODWALKER Y LEAL Y CIA. S.C.A., Via 40 No. 67-20/42, Barranquilla, Colombia; NIT # 900074434-5 (Colombia) [SDNT].

19. HOTEL LA CASCADA S.A. (f.k.a. CENTRO RECREACIONAL LA CASCADA LTDA.), Carrera 12 Avenida 25 Esquina, Girardot, Colombia; NIT # 890601336-8 (Colombia) [SDNT].

20. INMOBILIUM INVESTMENT CORP., Avenida Frederico Boyd y Calle 51, Edificio Torre Universal, Piso 3, Panama City, Panama; RUC # 4055231267286 (Panama) [SDNT].

21. INTERNACIONAL DE PROYECTOS INMOBILIARIA IPI S.A. (a.k.a. IPI S.A.), Avenida Pedro Vicente Maldonado 744, Edificio Centro Comercial El Recreo, Local 24I, Pichincha, Quito, Ecuador; RUC # 1791843436001 (Ecuador) [SDNT].

22. INVERSIONES AGROPECUARIA ARIZONA LTDA., Calle 82 No. 43-21 Ofc. 1C, Barranquilla, Colombia; NIT # 802019694-4 (Colombia) [SDNT].

23. INVERSIONES MPS S.A. (f.k.a. EQUIPOS MPS S.A.), Avenida 13 No. 100-12 Ofc. 302, Bogota, Colombia; NIT # 800231392-5 (Colombia) [SDNT].

24. LAVADERO EL CASTILLO, Carrera 84 No. 32B-40, Medellin, Colombia [SDNT].

25. LIZZY MUNDO INTERIOR, Justo Sierra 1963, Guadalajara, Jalisco, Mexico [SDNT].

26. MARTIN HODWALKER M. & CIA. S. EN C. (a.k.a. MARTIN HODWALKER M. AND CIA. S. EN C.; n.k.a. VERANILLO S.A.; f.k.a. VERANILLO Y CIA. S. EN C.), Via 40 No. 67-20/42, Barranquilla, Colombia; NIT # 802007314-9 (Colombia) [SDNT].

27. MC OVERSEAS TRADING COMPANY SA DE CV, Justo Sierra 1963, Guadalajara, Jalisco, Mexico [SDNT].

28. ORIMAR LTDA., Carrera 19 No. 57-33, Bogota, Colombia; NIT # 801076804-7 (Colombia) [SDNT].

29. OVERSEAS TRADING COMPANY (a.k.a. “DURATEX GUATEMALA”; a.k.a. “DURATEX S.A.”), 7A Avenida 9-15, Zona 12 Colonia La Reformita, Guatemala City, Guatemala; Barrio del Monte 1 Avenida 2-51, Zona 1 Colonia ViCanales No. 4, Guatemala City, Guatemala; 20 Calle 20-81 Zona 10, Guatemala City, Guatemala; NIT # 2500971-0 (Guatemala) [SDNT].

30. PROYECTOS Y SOLUCIONES INMOBILIARIA LTDA. (f.k.a. PROMOTORA DE PROYECTOS Y SOLUCIONES LTDA.), Avenida 13 No. 100-12 Ofc. 302, Bogota, Colombia; NIT # 800014349-8 (Colombia) [SDNT].

31. ROCK FISH IMPORT EXPORT E.U., Avenida Juan XXIII, San Andres, Colombia; NIT # 827000913-1 (Colombia) [SDNT].

32. TRANSPORTES MICHAEL LTDA. (a.k.a. TRANSMIKE LTDA.), Calle 30 No. 10-50, Barranquilla, Colombia; Sitio Nuevo, Magdalena, Colombia; NIT # 802024118-3 (Colombia) [SDNT].

33. VERANILLO DIVE CENTER LTDA. (a.k.a. CLUB DE PESCA VERANILLO), Via 40 No. 67-42, Barranquilla, Colombia; NIT # 802008393-5 (Colombia) [SDNT].

34. YAMAHA VERANILLO DISTRIBUIDORES, Via 40 No. 67-42, Barranquilla, Colombia [SDNT].

Dated: December 21, 2023.
Gregory T. Gatjanis,
Associate Director, Office of Foreign Assets Control, U.S. Department of the Treasury.

[FR Doc. 2023-28583 Filed 12-27-23; 8:45 am]

BILLING CODE 4810-AL-P